DEPARTMENT OF AGRICULTURE

Agricultural Marketing Service

7 CFR Chapters I, IX, X, and XI

[No. AMS-06-01]

Regulatory Flexibility Act: Review of Regulations

AGENCY: Agricultural Marketing Service, USDA.

ACTION: Schedule for review of agency regulations.

SUMMARY: This document updates the Agricultural Marketing Service's (AMS) schedule for reviewing its regulations under the Regulatory Flexibility Act (RFA). Included in this schedule all regulations that warrant periodic review irrespective of whether specific regulations meet the threshold requirement for mandatory review established by the RFA.

FOR FURTHER INFORMATION CONTACT: Christine M. Sarcone, Director, Legislative and Regulatory Review Staff, AMS, USDA, 14th & Independence Avenue, SW., Room 3510-South, Washington, DC 20250, telephone: (202) 720-3203; fax: (202) 690-3767.

SUPPLEMENTARY INFORMATION:

Background

Sec. 610 of the RFA (5 U.S.C. 610) requires agencies to review all regulations on a periodic basis that have or will have a significant economic impact on a substantial number of small entities. Because many of AMS’ regulations impact small entities, AMS decided, as a matter of policy, to review certain regulations which although they may not meet the threshold requirement under sec. 610 of the FRA (5 U.S.C. 610) merit review.

The purpose of each review will be to determine whether the rules should be continued without change, or should be amended or rescinded (consistent with the objectives of applicable statutes) to minimize impacts on small businesses. In reviewing its rules the AMS will consider the following factors: (1) The continued need for the rule; (2) The nature of complaints or comments from the public concerning the rule; (3) The complexity of the rule; (4) The extent to which the rule overlaps, duplicates, or conflicts with other Federal rules and, to the extent feasible, with the state and local regulations; and (5) The length of time since the rule has been evaluated or the degree to which technology, economic conditions, or other factors have changed in the area affected by the rule.

This document updates the plan which was published on August 14, 2003 (68 FR 48574). The Agency has modified the plan with respect to Tomatoes Grown in Florida (7 CFR part 966) and Winter Pears grown in Oregon and Washington (7 CFR part 927). With regard to pears, this program has been the subject of substantial regulatory change and we are allowing sufficient time for implementation before asking the public to review the program. With regard to tomatoes, we are continuing our review of that program. We're adding two new programs, Mango Promotion, Research, and Information (7 CFR part 1206) and Mandatory Country of Origin Labeling for Fish and Shellfish (7 CFR part 60) which were implemented in 2004 and will be reviewed in 2014. Results for reviews can be obtained from the person listed in the FOR FURTHER INFORMATION CONTACT section in “Confirmation of regulations” document which is published at the completion of each review. The list of reviews completed January 2005 to date include: (1) Raisins Produced from grapes Grown in California, part 989, January 30, 2006 (71 FR 4805); (2) Fluid Milk Promotion Program, March 9, 2005 (70 FR 11535); and (3) Dried Prunes Produced in California, February 13, 2006 (71 FR 7395). The Agency expects to publish review summaries for Cranberries Grown in the States of Massachusetts, Rhode Island, etc. (7 CFR part 929); Potato Research and Promotion Program (7 CFR part 1207); Mushroom Promotion, Research and Consumer Information Order (7 CFR part 1209); Soybean Promotion, Research and Consumer Information (7 CFR part 1220); and Egg Research and Promotion (7 CFR part 1250) later this year.

The attached document announces the revised schedule.

Dated: March 20, 2006.
Lloyd C. Day,
Administrator, Agricultural Marketing Service.

Agricultural Marketing Service Review Plan for Regulations Identified for Section 610 Review Regulatory Flexibility Act
CFR part & authority | AMS program/regulation | Year implemented | Year for review
7 Part 46; Sec. 15, 46 Stat. 537; 7 U.S.C. 499o | Perishable Agricultural Commodities Act, 1930 | 1930/Regs Amended 1997 | 2008
7 Part 60; 7 U.S.C. 1621 et seq. | Country of Origin Labeling for Fish and Shellfish | 2004 | 2014
7 Part 205; 7 U.S.C. 6501-6522 | National Organic Program | 2000 | 2010
7 Part 905; 7 U.S.C. 6501-674 | Oranges, Grapefruit, Tangerines, and Tangelos Grown in Florida | 1939 | 2007
7 Part 923; 7 U.S.C. 601-674 | Sweet Cherries Grown in Designated Counties in Washington | 1957 | 2007
7 Part 925; 7 U.S.C. 601-674 | Grapes Grown in a Designated Area of Southeastern California | 1980 | 2006
7 Part 927; 7 U.S.C. 601-674 | Winter Pears Grown in Oregon and Washington | 1939 | 2008
7 Part 929; 7 U.S.C. 601-674 | Cranberries Grown in States of Massachusetts, Rhode Island, etc | 1962 | * 2005
7 Part 930; 7 U.S.C. 601-674 | Tart Cherries Grown in MI, NY, PA, OR, UT, WA & WI | 1996 | 2006
7 Part 948; 7 U.S.C. 601-674 | Irish Potatoes Grown in Colorado | 1941 | 2006
7 Part 966; 7 U.S.C. 601-674 | Tomatoes Grown in Florida | 1955 | 2008
7 Part 984; 7 U.S.C. 601-674 | Walnuts Grown in California | 1948 | 2008
7 Part 996; Secs. 1308, Pub.L. 107-171, 116 Stat. 178 (7 U.S.C. 7958) | Minimum Quality and Handling Standards for Domestic and Imported Peanuts Marketed in the United States | 2003 | 2010
7 Parts 1000-1139; 7 U.S.C. 601-674 | Federal Milk Marketing Orders | 1999 | 2009
7 Part 1150; 7 U.S.C. 4501-4513 | Dairy Promotion Program | 1984 | 2006
7 Part 1206; 7 U.S.C. 7 U.S.C. 7411-7425 | Mango Promotion, Research, and Promotion Order | 2004 | 2014
7 Part 1207; 7 U.S.C. 2611-2627 | Potato Research and Promotion | 1972 | * 2005
7 Part 1209; 7 U.S.C. 6101-6112 | Mushroom Promotion, Research and Consumer Information Order | 1993 | * 2005
7 Part 1215; 7 U.S.C. 7481-7491 | Popcorn Promotion, Research and Consumer Information | 1997 | 2007
7 Part 1216; 7 U.S.C. 7401-7425 | Peanut Promotion, Research, and Information Order | 1999 | 2009
7 Part 1218; 7 U.S.C. 7401-7425 | Blueberry Promotion, Research, and Information Order | 2000 | 2010
7 Part 1219; 7 U.S.C. 7801-7813 | Hass Avocado Promotion, Research, and Information | 2003 | 2010
7 Part 1220; 7 U.S.C. 6301-6311 | Soybean Promotion, Research and Consumer Information | 1991 | * 2005
7 Part 1230; 7 U.S.C. 4801-4819 | Pork Promotion, Research, and Consumer Information | 1986 | 2008
7 Part 1240; 7 U.S.C. 4601-4612 | Honey Research, Promotion, and Consumer Information Order | 1987 | 2008
7 Part 1250; 7 U.S.C. 2701-2718 | Egg Research and Promotion | 1976 | * 2005
7 Part 1260; 7 U.S.C. 2901-2911 | Beef Promotion and Research | 1986 | 2007
* A notice was published in the Federal Register announcing this review. The agency expects to publish a summary later this year.

[FR Doc. 06-2896 Filed 3-23-06; 8:45 am]

BILLING CODE 3410-02-P